DEPARTMENT OF THE TREASURY

Internal Revenue Service

26 CFR Part 1

[REG-116048-99]

RIN 1545-AX63

Stock Transfer Rules: Supplemental Rules; Hearing Cancellation

AGENCY: Internal Revenue Service (IRS), Treasury.

ACTION: Cancellation of notice of public hearing on proposed rulemaking.

SUMMARY: This document provides notice of cancellation of a public hearing on proposed regulations relating to supplemental rules for stock transfers.

DATES: The public hearing originally scheduled for Thursday, April 20, 2000, at 10 a.m., is canceled.

FOR FURTHER INFORMATION CONTACT: Guy Traynor of the Regulations Unit, Assistant Chief Counsel (Corporate), (202) 622-7180 (not a toll-free number).

SUPPLEMENTARY INFORMATION: A notice of proposed rulemaking and notice of public hearing that appeared in the Federal Register on January 24, 2000, (65 FR 3629), announced that a public hearing was scheduled for April 20, 2000 at 10 a.m., in room 2615, Internal Revenue Building, 1111 Constitution Avenue NW., Washington, DC. The subject of the public hearing is proposed regulations under section 367(b), of the Internal Revenue Code. The deadline for requests to speak and outlines of oral comments expired on March 31, 2000.

The notice of proposed rulemaking and notice of public hearing, instructed those interested in testifying at the public hearing to submit a request to speak and an outline of the topics to be addressed. As of April 11, 2000, no one has requested to speak. Therefore, the public hearing scheduled for April 20, 2000, is cancelled.

Cynthia E. Grigsby,
Chief, Regulations Unit, Assistant Chief Counsel (Corporate).

[FR Doc. 00-9409 Filed 4-14-00; 8:45 am]

BILLING CODE 4830-01-P